DEPARTMENT OF EDUCATION

Applications for New Awards; Skills for Success Program

AGENCY: Office of Innovation and Improvement, Department of Education

ACTION: Notice.

Overview Information: Skills for Success Program.

Notice inviting applications for new awards for fiscal year (FY) 2015.

Catalog of Federal Domestic Assistance (CFDA) Number: 84.215H.

DATES:

Applications Available: June 11, 2015.

Deadline for Notice of Intent To Apply: June 29, 2015.

Date of Informational Meeting: June 24, 2015.

Deadline for Transmittal of Applications: July 29, 2015.

Deadline for Intergovernmental Review: September 28, 2015.

Full Text of Announcement

I. Funding Opportunity Description

Purpose of Program: The Skills for Success Program supports Local Educational Agencies ¹ (LEAs) and their partners in implementing, evaluating, and refining tools and approaches for developing the non-cognitive skills of middle-grades students in order to increase student success. Grants provide funding for the implementation, evaluation, and refinement of existing tools and approaches (e.g., digital games, growth mindset classroom activities, experiential learning opportunities) that integrate the development of students' non-cognitive skills into classroom-level activities and existing strategies designed to improve schools. As grantees implement their projects, we expect them to collect, analyze, and use data to improve their tools and strategies throughout the project period. Ultimately, we expect grantees to identify and validate scalable tools and approaches that can be used by educators of high-need middle-grades students across the country. In addition, we expect that these grants will help build the capacity of LEAs and their partners to conduct research and apply that research to school- and district-level practices. This program also encourages sustainable partnerships that can continue the use of effective tools and approaches beyond the grant period.

¹ Defined terms are noted throughout this document with initial capitals.

Background: An emerging body of research indicates that interventions that focus on enhancing student attributes, such as growth mindsets, resilience, self-control, and other social and behavioral skills, such as self-efficacy, can have a significant and lasting impact on student achievement and behavior. This research suggests that non-cognitive factors may play an important role in students' academic, career, and life outcomes.² For example, teaching students that their minds can grow and develop through routine and focused practice, as compared to referring to intelligence as a fixed trait like eye color, can increase students' academic success.³ This competition is designed to build on that research by expanding our knowledge and understanding about the tools and approaches for promoting non-cognitive skills or how educators can improve their students' non-cognitive skills as part of their broader efforts to enhance student educational outcomes, including efforts to improve academic achievement and attendance and reduce chronic absenteeism and exclusionary discipline.

² The University of Chicago Consortium of Chicago School Research (June 2012). Teaching Adolescents to Become Learners: The Role of Non-cognitive Factors in Shaping School Performance. Available at: https://ccsr.uchicago.edu/sites/default/files/publications/Noncognitive%20Report.pdf.

³ Blackwell, L.A., Trzesniewski, K.H., & Dweck, C.S. (2007). Implicit Theories of intelligence and achievement across the junior high school transition: A longitudinal study and an intervention. Child Development, 78, 246-263. Available at: mtoliveboe.org/cmsAdmin/uploads/blackwell-theories-of-intelligence-child-dev-2007.pdf.

For the FY 2015 competition, this program focuses on projects that implement, evaluate, and refine existing tools and approaches that are designed to improve students' non-cognitive skills during the middle grades. We consider the middle grades (grades 5-8) to be a particularly critical time in students' academic trajectories, especially in the context of increased expectations for what students should know and be able to do in order to be adequately prepared for college and career opportunities. Moreover, recent research demonstrates that educators of students in middle grades may be able to encourage non-cognitive skills development to improve student academic and behavioral outcomes.⁴

⁴ Yeager, David S., and Gregory M. Walton (April 2011). Social-Psychological Interventions in Education: They're Not Magic. Available at: https://web.stanford.edu/~gwalton/home/Research_files/YeagerWalton2011.pdf.

This competition supports projects that improve upon existing tools and approaches for enhancing students' non-cognitive skills by implementing these tools and approaches and collecting and using data, as well as leveraging other analytical methods, throughout the project. Through these grants, and LEAs' partnerships with nonprofit organizations, Institutions of Higher Education (IHEs), other LEAs, or some combination thereof, we expect to build LEAs' long-term capacity to implement, evaluate, and improve strategies that enhance students' non-cognitive skills. These partnerships could support capacity building by bringing additional resources and expertise to the implementation and evaluation of these tools and approaches. Strong partnerships could also help LEAs continue their work to develop students' non-cognitive skills beyond the grant period. By identifying and strengthening tools and approaches that enhance students' non-cognitive skills, LEAs are also expected to expand the impact of their projects by sharing their emerging practices with other LEAs or schools. Partnerships with nonprofit organizations and IHEs may also aid these dissemination efforts.

We include two absolute priorities in the FY 2015 competition. Applicants must address both absolute priorities.

The first absolute priority requires applicants to design projects that build upon existing tools and approaches that encourage middle-grades students to develop their non-cognitive skills. These projects are expected to improve student outcomes and behaviors; enhance the tools and approaches being utilized to enrich students' non-cognitive skills and behaviors through iterative analyses and improvements; and build knowledge from which other LEAs and schools can benefit. As efforts and investments in the non-cognitive area grow, we think it is important to identify potentially scalable strategies and models for students in the middle grades, and to build the evidence base supporting these approaches in order to determine how educators can effectively help students develop such skills and behaviors. These approaches might include, for example, implementing educator-led interventions for both individual students and groups of students (that are carried out directly with students), fostering changes in educators' instructional practices, or redesigning learning environments. Additionally, we ask applicants to ensure that their proposed approach fits into existing school- or district-level strategies to improve students' learning outcomes.

We also include a priority that requires applicants to design projects that improve academic outcomes or learning environments for High-need Students. Persistent and significant gaps exist between High-need Students and their more advantaged peers, and this competition seeks to expand approaches that help ensure that all students succeed academically and learn essential life skills that support their success in college and their career.

Priorities: This competition includes two absolute priorities. We are establishing Absolute Priority 1 for the FY 2015 Skills for Success competition and any subsequent year in which we make awards from the list of unfunded applicants from this competition, in accordance with section 437(d)(1) of the General Education Provisions Act (GEPA), 20 U.S.C. 1232(d)(1). Absolute Priority 2 is from the Department's notice of final supplemental priorities and definitions (Supplemental Priorities), published in the Federal Register on December 10, 2014 (79 FR 73425).

Absolute Priorities: These priorities are absolute priorities. Under 34 CFR 75.105(c)(3) we consider only applications that meet these priorities.

These priorities are:

Absolute Priority 1—Developing Non-Cognitive Skills in Middle-Grades Students

Under this priority we provide funding to projects that implement, refine, and evaluate existing tools and approaches that encourage the development of non-cognitive skills for students in grades 5-8. Such tools and approaches may be designed to encourage the development of growth mindsets, resilience, and self-control, among other attributes. Applicants must demonstrate how their proposed approach would develop students' non-cognitive skills and fit into existing school- or district-level improvement strategies. Projects will share their learnings with other LEAs.

Absolute Priority 2—Supporting High-Need Students

Under this priority we provide funding to projects that are designed to improve academic outcomes, learning environments, or both, for High-need Students.

Definitions: The following definitions are from 34 CFR 77.1, the Supplemental Priorities, and section 9101 of the Elementary and Secondary Education Act of 1965, as amended (ESEA) (20 U.S.C. 7801), and apply to the priorities and selection criteria in this notice. The source of each definition is noted in parentheses following the text of the definition.

High-minority school means a school as that term is defined by an LEA, which must define the term in a manner consistent with its State's Teacher Equity Plan, as required by section 1111(b)(8)(C) of the ESEA. The applicant must provide the definition(s) of High-minority Schools used in its application. (Supplemental Priorities)

High-need students means students who are at risk of educational failure or otherwise in need of special assistance and support, such as students who are living in poverty, who attend High-minority Schools, who are far below grade level, who have left school before receiving a Regular High School Diploma, who are at risk of not graduating with a diploma on time, who are homeless, who are in foster care, who have been incarcerated, who have disabilities, or who are English learners. (Supplemental Priorities)

Local educational agency means (a) In general—a public board of education or other public authority legally constituted within a State for either administrative control or direction of, or to perform a service function for, public elementary schools or secondary schools in a city, county, township, school district, or other political subdivision of a State, or of or for a combination of school districts or counties that is recognized in a State as an administrative agency for its public elementary schools or secondary schools.

(b) Administrative control and direction—The term includes any other public institution or agency having administrative control and direction of a public elementary school or secondary school.

(c) BIA schools—The term includes an elementary school or secondary school funded by the Bureau of Indian Affairs but only to the extent that including the school makes the school eligible for programs for which specific eligibility is not provided to the school in another provision of law and the school does not have a student population that is smaller than the student population of the local educational agency receiving assistance under this Act with the smallest student population, except that the school shall not be subject to the jurisdiction of any State educational agency other than the Bureau of Indian Affairs.

(d) Educational service agencies—The term includes educational service agencies and consortia of those agencies.

(e) State educational agency—The term includes the State educational agency in a State in which the State educational agency is the sole educational agency for all public schools. (ESEA)

Logic model (also referred to as theory of action) means a well-specified conceptual framework that identifies key components of the proposed process, product, strategy, or practice (i.e., the active “ingredients” that are hypothesized to be critical to achieving the relevant outcomes) and describes the relationships among the key components and outcomes, theoretically and operationally. (34 CFR 77.1)

Nonprofit, as applied to an agency, organization, or institution, means that it is owned and operated by one or more corporations or associations whose net earnings do not benefit, and cannot lawfully benefit, any private shareholder or entity. (34 CFR 77.1)

Quasi-experimental design study means a study using a design that attempts to approximate an experimental design by identifying a comparison group that is similar to the treatment group in important respects. These studies, depending on design and implementation, can meet What Works Clearinghouse Evidence Standards with reservations (but not What Works Clearinghouse Evidence Standards without reservations). (34 CFR 77.1)

Randomized controlled trial means a study that employs random assignment of, for example, students, teachers, classrooms, schools, or districts to receive the intervention being evaluated (the treatment group) or not to receive the intervention (the control group). The estimated effectiveness of the intervention is the difference between the average outcomes for the treatment group and for the control group. These studies, depending on design and implementation, can meet What Works Clearinghouse Evidence Standards without reservations. (34 CFR 77.1)

Regular high school diploma means the standard high school diploma that is awarded to students in the State and that is fully aligned with the State's academic content standards or a higher diploma and does not include a General Education Development credential, certificate of attendance, or any alternative award. (Supplemental Priorities)

Relevant outcome means the student outcome(s) (or the ultimate outcome if not related to students) the proposed process, product, strategy, or practice is designed to improve; consistent with the specific goals of a program. (34 CFR 77.1)

Strong theory means a rationale for the proposed process, product, strategy, or practice that includes a Logic Model. (34 CFR 77.1)

What Works Clearinghouse Evidence Standards means the standards set forth in the What Works Clearinghouse Procedures and Standards Handbook (Version 3.0, March 2014), which can be found at the following link: http://ies.ed.gov/ncee/wwc/DocumentSum.aspx?sid=19. (34 CFR 77.1)

Waiver of Proposed Rulemaking: Under the Administrative Procedure Act (5 U.S.C. 553), the Department generally offers interested parties the opportunity to comment on proposed priorities and requirements. Section 437(d)(1) of GEPA, however, allows the Secretary to exempt from rulemaking requirements, regulations governing the first grant competition under a new or substantially revised program authority. This is the first grant competition for this program under 20 U.S.C. 7243-7243c and therefore qualifies for this exemption. In order to ensure timely grant awards, the Secretary has decided to forego public comment on Absolute Priority 1 and the Eligible Applicants requirement under section 437(d)(1) of GEPA. This priority and this requirement will apply to the FY 2015 grant competition and any subsequent year in which we make awards from the list of unfunded applications for this competition.

Program Authority: 20 U.S.C. 7243-7243c.

Applicable Regulations: (a) The Education Department General Administrative Regulations (EDGAR) in 34 CFR parts 75, 76, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474. (d) The Supplemental Priorities (79 FR 73425).

Note: The regulations in 34 CFR part 86 apply to IHEs only.

II. Award Information

Type of Award: Discretionary grants.

Estimated Available Funds: $2,000,000.

Contingent upon the availability of funds and the quality of applications, we may make additional awards in FY 2016 or later years from the list of unfunded applicants from this competition.

Estimated Range of Awards: $400,000-600,000 per year.

Estimated Average Size of Awards: $500,000 per year.

Funding for the second and third years is subject to the availability of funds and the approval of continuation awards (see 34 CFR 75.253).

Estimated Number of Awards: 4-5.

Note: The Department is not bound by any estimates in this notice.

Project Period: 12-36 months.

III. Eligibility Information

1. Eligible Applicants: The following entities are eligible to apply for Skills for Success grants:

(a) An LEA.

(b) An LEA in partnership with—

(1) A nonprofit;

(2) An IHE; or

(3) Other LEAs.

2. Cost Sharing or Matching: This program does not require cost sharing or matching.

IV. Application and Submission Information

1. Address to Request Application Package: You can obtain an application package via the Internet or from the Education Publications Center (ED Pubs). To obtain a copy via the Internet, use the following address: www2.ed.gov/programs/skillssuccess/index.html. To obtain a copy from ED Pubs, write, fax, or call the following: ED Pubs, U.S. Department of Education, P.O. Box 22207, Alexandria, VA 22304. Telephone, toll free: 1-877-433-7827. FAX: (703) 605-6794.

If you use a telecommunications device for the deaf (TDD) or a text telephone (TTY), call, toll free: 1-877-576-7734.

You can contact ED Pubs at its Web site, also: www.EDPubs.gov or at its email address: edpubs@inet.ed.gov.

If you request an application package from ED Pubs, be sure to identify this program or competition as follows: CFDA number 84.215H.

Individuals with disabilities can obtain a copy of the application package in an accessible format (e.g., braille, large print, audiotape, or compact disc) by contacting the person listed under Accessible Format in section VIII of this notice.

2. a. Content and Form of Application Submission: Requirements concerning the content of an application, together with the forms you must submit, are in the application package for this competition.

Deadline for Notice of Intent to Apply: June 29, 2015.

We will be able to develop a more efficient process for reviewing grant applications if we know the approximate number of applicants that intend to apply for funding under this competition. Therefore, the Secretary strongly encourages each potential applicant to notify us of the applicant's intent to submit an application by completing a Web-based form. Applicants may access this form online at https://www.surveymonkey.com/r/VB5L3BR. Applicants that do not complete this form may still submit an application. Page Limit: The application narrative (Part III of the application) is where you, the applicant, address the selection criteria that reviewers use to evaluate your application. Applicants submitting an application should limit the application narrative to no more than 25 pages. Applicants also are strongly encouraged not to include lengthy appendices for the application that contain information that they were unable to include in the narrative. Applicants should use the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial.

The page limit for the application does not apply to Part I, the cover sheet; Part II, the budget section, including the narrative budget justification; Part IV, the assurances and certifications; or the one-page abstract, the resumes, the bibliography, or the letters of support for the application.

b. Submission of Proprietary Information:

Given the types of projects that may be proposed in applications for the Skills for Success Program, some applications may include business information that applicants consider proprietary. The Department's regulations define “business information” in 34 CFR 5.11.

We plan on posting the application narrative section of funded Skills for Success applications on the Department's Web site, so you may wish to request confidentiality of business information. Identifying proprietary information in the submitted application will help facilitate this public disclosure process.

Consistent with Executive Order 12600, please designate in your application any information that you feel is exempt from disclosure under Exemption 4 of the Freedom of Information Act. In the appropriate Appendix section of your application, under “Other Attachments Form,” please list the page number or numbers on which we can find this information. For additional information please see 34 CFR 5.11(c).

3. Submission Dates and Times:

Applications Available: June 11, 2015.

Deadline for Notice of Intent to Apply: June 29, 2015.

Date of Informational Meeting: We intend to hold a Webinar to provide technical assistance to interested applicants on June 24, 2015. You may obtain detailed information regarding this meeting on the Skills for Success Web site at www2.ed.gov/programs/skillssuccess/index.html.

Deadline for Transmittal of Applications: July 29, 2015.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: September 28, 2015.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants for the Skills for Success Program must be submitted electronically unless you qualify for an exception to this requirement in accordance with the instructions in this section.

a. Electronic Submission of Applications.

Applications for Skills for Success grants, CFDA number 84.215H, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Skills for Success Program at www.Grants.gov. You must search for the downloadable application package for this competition by the CFDA number. Do not include the CFDA number's alpha suffix in your search (e.g., search for 84.215, not 84.215H).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because--

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Kelly Terpak, U.S. Department of Education, 400 Maryland Avenue SW., Room 4C107, Washington, DC 20202-5930. FAX: (202) 205-5631.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address:

U.S. Department of Education, Application Control Center, Attention: (CFDA Number 84.215H), LBJ Basement Level 1, 400 Maryland Avenue SW., Washington, DC 20202-4260

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address:

U.S. Department of Education, Application Control Center, Attention: (CFDA Number 84.215H), 550 12th Street SW., Room 7039, Potomac Center Plaza, Washington, DC 20202-4260

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210, and are listed below. The points assigned to each criterion are indicated in the parentheses next to the criterion. An applicant may earn up to a total of 100 points based on the selection criteria for the application.

A. Significance. (up to 20 points)

The Secretary considers the significance of the proposed project. In determining the significance of the proposed project, the Secretary considers the following factors:

1. The likely utility of the products (such as information, materials, processes, or techniques) that will result from the proposed project, including the potential for their being used effectively in a variety of other settings.

2. The extent to which the proposed project involves the development or demonstration of promising new strategies that build on, or are alternatives to, existing strategies.

3. The potential contribution of the proposed project to the development and advancement of theory, knowledge, and practices in the field of study.

B. Quality of the project design. (up to 45 points)

The Secretary considers the quality of the design of the proposed project. In determining the quality of the design of the proposed project, the Secretary considers the following factors:

1. The extent to which the proposed project is supported by Strong Theory.

2. The extent to which the proposed project represents an exceptional approach to the priority or priorities established for the competition.

3. The extent to which the proposed activities constitute a coherent, sustained program of research and development in the field, including, as appropriate, a substantial addition to an ongoing line of inquiry.

4. The extent to which performance feedback and continuous improvement are integral to the design of the proposed project.

C. Quality of the management plan. (up to 15 points)

The Secretary considers the quality of the management plan for the proposed project. In determining the quality of the management plan for the proposed project, the Secretary considers the following factors:

1. The adequacy of procedures for ensuring feedback and continuous improvement in the operation of the proposed project.

2. The adequacy of the management plan to achieve the objectives of the proposed project on time and within budget, including clearly defined responsibilities, timelines, and milestones for accomplishing project tasks.

3. The relevance and demonstrated commitment of each partner in the proposed project to the implementation and success of the project.

D. Quality of the project evaluation. (up to 20 points)

The Secretary considers the quality of the evaluation to be conducted of the proposed project. In determining the quality of the evaluation, the Secretary considers the following factors:

1. The extent to which the methods of evaluation provide for examining the effectiveness of project implementation strategies.

2. The extent to which the evaluation will provide guidance about effective strategies suitable for replication or testing in other settings.

3. The extent to which the methods of evaluation will provide performance feedback and permit periodic assessment of progress toward achieving intended outcomes.

4. The extent to which the methods of evaluation will, if well-implemented, produce evidence about the project's effectiveness that would meet the What Works Clearinghouse Evidence Standards with reservations.

Note: Applicants may wish to review the following technical assistance resources on evaluation:

(1) WWC Procedures and Standards Handbook: http://ies.ed.gov/ncee/wwc/references/idocviewer/doc.aspx?docid=19&tocid=1; and (2) IES/NCEE Technical Methods papers: http://ies.ed.gov/ncee/tech_methods. In addition, we invite applicants to view two Webinar recordings that were hosted by the Institute of Education Sciences (IES). The first Webinar addresses strategies for designing and executing well-designed Quasi-experimental Design Studies. This Webinar is available at: http://ies.ed.gov/ncee/wwc/news.aspx?sid=23. The second Webinar focuses on more rigorous evaluation designs, including strategies for designing and executing Randomized Controlled Trials. This Webinar is available at: http://ies.ed.gov/ncee/wwc/news.aspx?sid=18.

2. Review and Selection Process: Peer reviewers will review all applications eligible for Skills for Success grants that are submitted by the established deadline.

We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: We have established two performance measures for the Skills for Success grants.

(1) The percentage of grantees that demonstrate improvement in participating students' academic and behavioral outcomes.

(2) The percentage of grantees that demonstrate that at least one tool or approach for enhancing participating students' non-cognitive skills is effective; refined, if necessary; and validated.

5. Continuation Awards: In making a continuation award under 34 CFR 75.253, the Secretary considers, among other things: Whether a grantee has made substantial progress in achieving the goals and objectives of the project; Whether the grantee has expended funds in a manner that is consistent with its approved application and budget; and, if the Secretary has established performance measurement requirements, the performance targets in the grantee's approved application. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Kelly Terpak, U.S. Department of Education, 400 Maryland Avenue SW., Room 4C107, Washington, DC 20202-5930. Telephone: (202) 205-5231. FAX: (202) 205-5631.

If you use a TDD or a TTY, call the Federal Relay Service, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 4, 2015.
Nadya Chinoy Dabby,
Assistant Deputy Secretary for Innovation and Improvement.

[FR Doc. 2015-14081 Filed 6-8-15; 8:45 am]

BILLING CODE 4000-01-P